DEPARTMENT OF LABOR

Mine Safety and Health Administration

Finding of Exception Pursuant to Section 501(f) of the Mine Act

AGENCY: Mine Safety and Health Administration, Labor.

ACTION: Notice.

SUMMARY: The Mine Safety and Health Administration (MSHA) is granting an exception to certain mandatory safety standards to the Mathies Mine pursuant to section 501(f) of the Federal Mine Safety and Health Act of 1977 (Mine Act).

DATES: This notice is effective upon publication in the Federal Register.

FOR FURTHER INFORMATION CONTACT: Ray McKinney, Administrator for Coal Mine Safety and Health, 1100 Wilson Blvd., Room 2424, Arlington, Virginia 22209-3939; phone: 202-693-9502; fax: 202-693-9501; E-mail: mckinney-ray@msha.gov.

SUPPLEMENTARY INFORMATION: The Mine Safety and Health Administration (MSHA) is granting to the Mathies Mine in Union Township, Washington County, Pennsylvania an exception to certain mandatory safety standards for the purpose of allowing researchers from Carnegie Mellon University to conduct an experiment by testing a self-propelled, robot device in the mine. This exception is granted pursuant to section 501(f) of the Federal Mine Safety and Health Act of 1977 (Mine Act).

Section 501(f) of the Mine Act states that:

The Secretary is authorized to grant on a mine-by-mine basis an exception to any mandatory health or safety standard under this Act for the purpose of permitting, under such terms and conditions as he may prescribe, accredited educational institutions the opportunity for experimenting with new and improved techniques and equipment to improve the health and safety of miners. No such exception shall be granted unless the Secretary finds that the granting of the exception will not adversely affect the health and safety of miners and publishes his findings.

The robot device, known as “Groundhog,” will conduct an exploratory underground survey of a haulageway through a section of the Mathies Mine which has been unoccupied and in non-producing status for one year. The haulageway consists of two naturally ventilated passages from the storage yard to the preparation plant. Groundhog will start its exploration at the storage yard portal, pass through the entire length of the haulageway, and emerge at the preparation plant portal. During the course of this experiment, no miners or any other personnel will enter the non-producing mine.

This experiment demonstrates new techniques and equipment which will improve the health and safety of miners by mapping unknown mine areas without endangering miners. Mathies Mine submitted a plan to MSHA which governs all phases of the experiment at the mine. This grant of exceptions to mandatory safety standards is based on MSHA's approval of the terms and conditions in that plan. A copy of the plan may be obtained from MSHA at the address noted above. MSHA finds that the granting of this exception to underground coal mine safety standards will not adversely affect the health and safety of miners. Mathies Mine is therefore granted an exception to all safety standards for underground coal mines governing mine ventilation, mine examinations, and electric equipment (30 CFR subparts D and F) for the duration of the experiment.

Dated: May 23, 2003.
Dave D. Lauriski,
Assistant Secretary for Mine Safety and Health.

[FR Doc. 03-13529 Filed 5-28-03; 8:45 am]

BILLING CODE 4510-43-P